DEPARTMENT OF HEALTH AND HUMAN SERVICES

Indian Health Service

Office of Urban Indian Health Programs Funding Opportunity: Title V HIV/AIDS Program

AGENCY: Indian Health Service, HHS.

ACTION: Notice: correction.

SUMMARY: The Indian Health Service published a document in the Federal Register on June 19, 2012, concerning Announcement Type: New Limited Competition. Funding Announcement Number: HHS-2012-IHS-UIHP-0001. Catalog of Federal Domestic Assistance Number: 93.193. The document contained five incorrect dates.

FOR FURTHER INFORMATION CONTACT: Ms. Phyllis Wolfe, Director, Office of Urban Health Programs, Indian Health Service, 801 Thompson Avenue, Suite 200, Reyes Building, Rockville, MD 20852, Telephone 301-443-4680. (This is not a toll-free number.)

Corrections

In the Federal Register of June 19, 2012, in FR DOC 2012-14887, on page 36550, in the third column, under the heading “Dates: Key Dates:” “Application Deadline Date: July 16, 2012.” should read “July 20, 2012.” On page 36558, in the first column, under the heading “3. Other Requirements” “A copy of the 501(c)(3) Certificate must be received with your application submission by the deadline date of July 16, 2012.” should read “A copy of the 501(c)(3) Certificate must be received with your application submission by the deadline date of July 20, 2012.” On page 36558, in the third column, under the heading “3. Submission Dates and Times” “Application must be submitted electronically through Grants.gov by 12:00 a.m., midnight Eastern Daylight Time (EDT) on July 16, 2012.” should read “Application must be submitted electronically through Grants.gov by 12:00 a.m., midnight Eastern Daylight Time (EDT) on July 20, 2012.” On page 36559, in the first column, under the heading “Other Important Due Dates: Proof of Non-Profit Status: Due date July 16, 2012.” should read “July 20, 2012.” On page 36559, in the second column, “e. If the waiver is approved, the application should be sent directly to the DGM by the deadline date of July 16, 2012, by 5:00 p.m. EDT.” should read “e. If the waiver is approved, the application should be sent directly to the DGM by the deadline date of July 20, 2012, by 5:00 p.m. EDT.”

Dated: July 2, 2012.
Yvette Roubideaux,
Director, Indian Health Service.

[FR Doc. 2012-17046 Filed 7-11-12; 8:45 am]

BILLING CODE 4165-16-P